DEPARTMENT OF STATE

[Public Notice 5518]

60-Day Notice of Proposed Information Collection: DSP-122, Supplemental Registration for the Diversity Immigrant Visa Program, OMB No. 1405-0098, DSP-122

ACTION: Notice of request for public comments.

SUMMARY: The Department of State is seeking Office of Management and Budget (OMB) approval for the information collection described below. The purpose of this notice is to allow 60 days for public comment in the Federal Register preceding submission to OMB. We are conducting this process in accordance with the Paperwork Reduction Act of 1995.

• Title of Information Collection: Supplemental Registration for the Diversity Immigrant Visa Program.

• OMB Control Number: 1405-0098.

• Type of Request: Extension of a Currently Approved Collection.

• Originating Office: Bureau of Consular Affairs, Office of Visa Services.

• Form Number: DSP-122.

• Respondents: Diversity visa applicants.

• Estimated Number of Respondents: 60,000.

• Estimated Number of Responses: 60,000.

• Average Hours per Response: 30 minutes.

• Total Estimated Burden: 30,000.

• Frequency: Once per application.

• Obligation to Respond: Required to obtain benefit.

DATES: The Department will accept comments from the public up to 60 days from August 22, 2006.

ADDRESSES: You may submit comments by any of the following methods:

• E-mail: VisaRegs@state.gov (the subject line of the e-mail must be DSP-122)

• Mail (paper, disk, or CD-ROM submissions): Chief, Legislation and Regulation Division, Visa Services—DSP-122 Reauthorization, 2401 E Street, NW., Washington, DC 20520-30106.

• Fax: (202) 663-3898.

You must include the DS form number (if applicable); information collection title, and OMB control number in any correspondence.

FOR FURTHER INFORMATION CONTACT: Direct requests for additional information regarding the collection listed in this notice, including requests for copies of the proposed information collection and supporting documents, to Andrea Lage of the Office of Visa Services, U.S. Department of State, 2401 E Street, NW., L-603, Washington, DC 20520, who may be reached at (202) 663-1221 or lageab@state.gov.

SUPPLEMENTARY INFORMATION: We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of proposed collection: The Kentucky Consular Center (KCC) will register selected diversity visa lottery entries and then send the applicant an Instruction Package for Immigrant Visa Applicants, which consists of DS-122 (Supplemental Registration for the Diversity Immigrant Visa Program) and DS-230 (Application for Immigrant Visa and Alien Registration Part I and II). In order for an applicant to be considered documentarily qualified for a visa, the applicant must complete and return both of the above-mentioned forms to KCC. Upon receipt of these forms KCC will transmit the Immigrant Visa Appointment Package and schedule an appointment for the applicant.

Methodology: Applicants must return the completed form to the KCC via mail.

Dated: August 7, 2006.
Stephen A. Edson,
Deputy Assistant Secretary, Bureau of Consular Affairs, Department of State.

[FR Doc. E6-13883 Filed 8-21-06; 8:45 am]

BILLING CODE 4710-06-P